DEPARTMENT OF ENERGY

[GDO Docket No. EA-468-A]

Application for Renewal of Authorization To Export Electric Energy; TransCanada Energy Sales Ltd.

AGENCY: Grid Deployment Office, Department of Energy.

ACTION: Notice of application.

SUMMARY: TransCanada Energy Sales Ltd. (the Applicant or TCES) has applied for renewed authorization to transmit electric energy from the United States to Canada pursuant to the Federal Power Act.

DATES: Comments, protests, or motions to intervene must be submitted on or before January 26, 2024.

ADDRESSES: Comments, protests, motions to intervene, or requests for more information should be addressed by electronic mail to Electricity.Exports@hq.doe.gov.

FOR FURTHER INFORMATION CONTACT: Christina Gomer, (240) 474-2403, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export. (16 U.S.C. 824a(e)). On April 10, 2023, the authority to issue such orders was delegated to the DOE's Grid Deployment Office (GDO) by Delegation Order No. S1-DEL-S3-2023 and Redelegation Order No. S3-DEL-GD1-2023.

On May 6, 2014, DOE issued Order No. EA-98-M, authorizing certain members of WSPP Inc., including TCES, to transmit electric energy from the United States to Canada as power marketers. TCES's export authority was renewed on May 13, 2019 (Order No. EA-468). On November 14, 2023, TCES filed an application with DOE (Application or App.) for renewal of their export authority for an additional five-year term. App. at 1.

In its Application, TCES states that it “does not own or control any generation, transmission, or distribution facilities within the United States and does not have a franchised electric power service area.” Id. at 2. Further, TCES is not affiliated with an entity that holds an electric franchise or service territory in the United States. Id. Rather, TCES is a power marketer seeking continued authorization to transmit electric energy, on either a firm or interruptible basis, to Canada and plans to purchase the power to be exported from electric utilities, qualifying small power production facilities, cogeneration facilities and federal power marketing agencies. Id. at 3-4. The Applicant represents that because it neither owns, operates nor controls an electric power supply transmission and/or distribution system, “its exports cannot have any adverse impact on the reliability, stability, or sufficiency of supply on a franchised electric supply system or the electric power supply within the U.S.” Id. at 5.

The existing international transmission facilities to be utilized by the Applicant have been previously authorized by Presidential permits issued pursuant to Executive Order 10485, as amended, and are appropriate for open access transmission by third parties. See id. at Exhibit C.

Procedural Matters: Any person desiring to be heard in this proceeding should file a comment or protest to the Application at Electricity.Exports@hq.doe.gov. Protests should be filed in accordance with Rule 211 of Federal Energy Regulatory Commission's (FERC's) Rules of Practice and Procedure (18 CFR 385.211). Any person desiring to become a party to this proceeding should file a motion to intervene at Electricity.Exports@hq.doe.gov in accordance with FERC Rule 214 (18 CFR 385.214).

Comments and other filings concerning TCES's Application should be clearly marked with GDO Docket No. EA-468-A. Additional copies are to be provided directly to David Farmer, Senior Legal Counsel and Manager, TC Energy, 450-1 Street SW, Calgary, AB T2P 5H1, david_farmer@tcenergy.com, and Catherine McCarthy, Partner, Bracewell LLP, 2001 M Street NW, Suite 900, Washington, DC 20036, cathy.mccarthy@bracewell.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority: This document of the Department of Energy was signed on December 19, 2023, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 20, 2023.
Treena V. Garrett,
Federal Register Liaison Officer, U.S. Department of Energy.

[FR Doc. 2023-28480 Filed 12-26-23; 8:45 am]

BILLING CODE 6450-01-P